DEPARTMENT OF TRANSPORTATION

Federal Aviation Adminstration

14 CFR Part 39

[Docket No. 2003-CE-23-AD; Amendment 39-13173; AD 2003-11-14]

RIN 2120-AA64

Airworthiness Directives; The New Piper Aircraft, Inc. Models PA-34-200T, PA-34-220T, PA-44-180, and PA-44-180T Airplanes

Correction

In rule document 03-13650 beginning on page 33356 in the issue of Wednesday, June 4, 2003, make the following correction:

§ 39.13 [Corrected]

On page 33358, in § 39.13(d), in the first column, in the table, under the column heading “Actions”, correct (1) to read as follows:

“(1) Visually inspect any installed aircraft heater fuel pump (model 91E92-1 or model 91E93-1) for leakage.”.

[FR Doc. C3-13650 Filed 7-18-03; 8:45 am]

BILLING CODE 1505-01-D